DEPARTMENT OF COMMERCE

National Oceanic and Atmospheric Administration

RIN 0648-XD259

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that an Exempted Fishing Permit (EFP) application contains all of the required information and warrants further consideration. This EFP would allow up to three commercial fishing vessels to conduct exploratory fishing in year-round groundfish closed areas (Closed Areas (CAs) I and II) for the purposes of obtaining fisheries dependent catch information. This research is being conducted by Atlantic Trawlers Fishing, Inc.

Regulations under the Magnuson-Stevens Fishery Conservation and Management Act require publication of this notification to provide interested parties the opportunity to comment on applications for proposed EFPs.

DATES: Comments must be received on or before May 14, 2014.

ADDRESSES: You may submit written comments by any of the following methods:

• Email: nmfs.gar.efp@noaa.gov. Include in the subject line “Comments on Exploratory Closed Area Fishing EFP.”

• Mail: John K. Bullard, Regional Administrator, NMFS, NE Regional Office, 55 Great Republic Drive, Gloucester, MA 01930. Mark the outside of the envelope “Comments on Closed Area Exploratory Fishing EFP.”

• Fax: (978) 281-9135.

FOR FURTHER INFORMATION CONTACT: Brett Alger, Fisheries Management Specialist, 978-675-2153, brett.alger@noaa.gov.

SUPPLEMENTARY INFORMATION: In a proposed rule for Northeast Multispecies Sector vessels that would allow vessels using selective trawl gear into portions of year-round Georges Bank (GB) groundfish CAs I and II in fishing year (FY) 2014, NMFS announced interest in gathering catch data from these areas through EFPs (79 FR 14639, March 17, 2014). This would provide NMFS with fisheries dependent data from these areas, which have been closed to groundfish bottom trawling for nearly 20 years, to help inform whether to allow conditional access to CAs I and II to sector vessels through the sector exemption process. Data from vessels operating under an EFP would be used to characterize catch rates of target and non-target species in the CAs, as well as help inform industry on the economic feasibility of industry-funded monitoring for trips into CAs I and II in FY 2014. Atlantic Trawlers Fishing, Inc. submitted a complete application for an EFP to conduct commercial fishing activities that the regulations would otherwise restrict. The EFP would authorize three vessels to fish during the entire fishing year, and inside portions of groundfish CA I and CA II during specified times of the fishing year. Under this EFP, vessels would be allowed to use nets with codend mesh as small as 5.1-inch (13 cm) square mesh when fishing with a haddock separator or Ruhle trawl. In addition, for sampling purposes, vessels would be authorized to temporarily retain sub-legal fish, and fish in excess of possession limits. All under-size fish and fish in excess of possession limits would be discarded as soon as practicable following data collection.

The GB haddock fishery has historically been a specialized fishery where a sub-subset of groundfish fishery participants accounted for a large proportion of the landings. GB haddock are found across a wide range of depths, substrates and sub-areas of GB. The applicant notes that haddock behavior and movement patterns are highly variable; and that catchability is dictated by many environmental factors, including tide, current, moon phase, and diurnal cycles. These highly variable haddock catch rates pose a relatively high economic risk for vessels targeting this species, which would be further compounded by having to pay for an at-sea monitor. Due to the variable catch rates, the applicant states that a large portion of catch from a trip is often caught in one or two very large tows, and that successful haddock fishermen must spend significant time trying to locate haddock concentrations. Consequently, the applicant has stated that vessels must have consistent access to CAs I and II to effectively characterize target and non-target catch rates.

The EFP applicant seeks to address five objectives in this EFP as follows: (1) Generate data on the composition of catch, including presence and absence of target (e.g., GB haddock) and non-target species; (2) test the effectiveness of utilizing gear comparable to the Canadian haddock fishery on Georges Bank (e.g., haddock separator trawl with 5.1 inch (13 cm) square mesh codend) to improve haddock selectivity, catch ratios, and improved annual catch limit (ACL) utilization rates; (3) collect data to examine the economic feasibility of an industry funded monitoring program for CA trips; (4) test the effectiveness of providing access to portions of the existing CAs for improving utilization rates of GB haddock; and (5) collect information from CAs I and II so that NMFS may conduct analyses to determine whether fishing can be allowed at a level of observer coverage of less than 100 percent, should an exemption be approved.

To fulfill these objectives, vessels would be accompanied by a technician with an at-sea-monitor certification, and would be required to fish with either a haddock separator trawl or a Ruhle trawl, fitted with either a 6-inch (15.2 cm) diamond mesh codend (currently allowed in the fishery) or a 5.1-inch (13-cm) square mesh codend. The applicant claims that the 5.1-inch (13-cm) square mesh codend will improve their ability to target legal-size haddock while maintaining the ability to filter out small non-target catch, including sub-legal haddock. All three vessels will be equipped with echo sounders that operate on multiple frequencies, which provide the capability of revealing fish size distribution and bottom hardness.

For CA I, vessels would be given access to all areas within CA1 that are not existing Habitat Management Areas or contained in the New England Fisheries Management Council's (Council) draft Omnibus Habitat Amendment as Habitat Management Area alternatives as of April 30, 2014, from the date that the EFP is issued, through February 15, 2015. NMFS has raised concerns about spawning in CA I from January 1 to February 15, but the applicant has requested access for this period to collect information to address questions about spawning fish.

In CA II, vessels would be given access to all areas within CA II that are not existing Habitat Management Areas or contained in the Council's draft Omnibus Habitat Amendment as Habitat Management Area alternatives as of April 30, 2014. Vessels would have access from the date that the EFP is issued, through June 15, 2014, and then from November 1, 2014 through February 15, 2015. Similar to CA I, NMFS has raised concerns about spawning in CA II from January 1 to February 15, but the applicant has requested access for this period to collect information to address questions about spawning fish. The dates for CA II access reflect an agreement between sector trawl fishermen and the lobster industry, which was developed in anticipation of sectors being granted CA II access through an exemption in FY 2013. The agreement was established to avoid gear conflicts between lobster and groundfish vessels. The applicant and members of the lobster industry remain concerned about gear conflicts that could arise from this, or any other EFP, that are accessing CA II. Therefore, the applicant would not access portions of CA II from June 15 through November 1, the time period that the lobster industry is allowed access.

The applicant requests issuance of the EFP for the entire fishing year in order to use a smaller mesh codend throughout the year, but access to the closed areas would be for only portions of the year. Fishing effort under the EFP would be heavily dependent upon operational decisions dictating whether to fish within CAs I and II, as compared to outside the areas. As previously described, the applicant has stated that the directed haddock fishery is highly dynamic and requires a high degree of mobility. If approved, the applicant has stated that the three participating vessels would focus on the directed haddock fishery throughout the study period, and makes tows both inside and outside the CAs on the same trip. Vessel tow duration would vary from 30 minutes to 3 hours and trawling would occur up to 18 hours per fishing day. An average trip duration would be seven days, consisting of five days fishing and two days steaming, and there would be an average of three trips total, per month. All legal sized fish will be landed and sold with all proceeds retained by the vessel owner. All three vessels are members of the Sustainable Harvest Sector (SHS) and all catch of allocated stocks (e.g., haddock, cod) would be accounted for under the annual catch entitlements (ACEs) of the SHS. If the SHS exceeds its ACE for an allocated stock, it would need to lease in additional ACE in order to continue fishing.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 24, 2014.
Emily H. Menashes,
Acting Director, Office of Sustainable Fisheries, National Marine Fisheries Service.

[FR Doc. 2014-09742 Filed 4-28-14; 8:45 am]

BILLING CODE 3510-22-P